DEPARTMENT OF EDUCATION

Office of Innovation and Improvement

Overview Information; School Leadership Program; Notice Inviting Applications for New Awards for Fiscal Year (FY) 2005

Catalog of Federal Domestic Assistance (CFDA) Number: 84.363A.

Dates

Applications Available: February 22, 2005.

Deadline for Notice of Intent to Apply: March 24, 2005.

Deadline for Transmittal of Applications: April 15, 2005.

Deadline for Intergovernmental Review: June 14, 2005.

Eligible Applicants: High-need local educational agencies (LEAs), consortia of high-need LEAs, or partnerships that consist of at least one high-need LEA and at least one nonprofit organization (which may be a community- or faith-based organization) or institution of higher education. (See section III. Eligibility Information, 3. Other: Definition of “High-Need LEA” and other Eligibility Information) in this notice.

Estimated Available Funds: $12 million.

Estimated Range of Awards: $250,000-$750,000.

Estimated Average Size of Awards: $500,000.

Estimated Number of Awards: 24.

Note: The Department is not bound by any estimates in this notice.

Project Period: Up to 36 months.

Full Text of Announcement

I. Funding Opportunity Description

Purpose of Program: The School Leadership program is designed to assist high-need LEAs in the development, enhancement, or expansion of innovative programs to recruit, train, and mentor principals (including assistant principals) to serve in high-need schools through such activities as:

• Providing financial incentives to aspiring new principals;

• Providing stipends to principals who mentor new principals;

• Carrying out professional development programs in instructional leadership and management; and

• Providing incentives that are appropriate for teachers or individuals from other fields who want to become principals and that are effective in retaining new principals.

Priorities: Under this competition we are particularly interested in applications that address the following priorities.

Invitational Priorities: For FY 2005 these priorities are invitational priorities. Under 34 CFR 75.105(c)(1) we do not give an application that meets these invitational priorities a competitive or absolute preference over other applications.

These priorities are:

Invitational Priority 1—Commitment from the LEA. To successfully meet the purpose of this program and to develop institutional capacity and sustainability, projects need the full support of each participating high-need LEA. Therefore, the Secretary strongly encourages applicants to develop strategies for maximizing the involvement of each participating LEA in the project's design, development and implementation. These strategies, for example, might focus on ensuring that—

• The proposed project is part of an already well-defined and articulated district-wide strategy for improving student achievement in each participating high-need LEA;

• Each participating LEA's superintendent and his or her staff play key roles in identifying the competencies that program participants need to know and demonstrate, and use those competencies to implement and build the training program;

• Each participating LEA has established procedures for placing participants in part-time or full-time leadership positions or residencies in high-need schools as part of their training and preparation; and

• Each participating LEA is firmly committed to hiring successful program completers.

Invitational Priority 2—Innovative approaches to recruiting and preparing school leaders through alternative routes. Over the next five years the number of vacancies among principals and other school leaders is expected to grow by 20 percent; filling these positions will be particularly challenging for rural and urban districts, which tend to receive fewer applications for open positions.

Studies show that there is no overall shortage of candidates with the credentials that States require for school principals. However, those same studies indicate that most of these candidates typically acquired their credentials in order to obtain salary increases or attain an advanced degree, and not necessarily because of a strong personal commitment to becoming leaders of their schools and school communities.

The Department recognizes that some States have addressed the need to increase the pool of candidates who are committed to becoming school leaders in high-need LEAs and schools, in particular by making available alternative routes to meeting requirements for certification or licensure as a school principal or assistant principal. The Secretary strongly encourages eligible entities in States with these approved alternative routes to submit applications that propose to recruit individuals of diverse professional backgrounds who can take advantage of the alternative routes, and then create incentives for these individuals to participate in the program and to take leadership positions in high-need schools that face the greatest challenges.

Applicants may choose to address one or more of these invitational priorities within their responses to the selection criteria.

Program Authority: 20 U.S.C. 6651(b).

Applicable Regulations: The Education Department General Administrative Regulations (EDGAR) in 34 CFR parts 74, 75, 77, 79, 80, 81, 82, 84, 85, 86, 97, 98 and 99.

Note: The regulations in 34 CFR part 79 apply to all applicants except federally recognized Indian tribes.

Note: The regulations in 34 CFR part 86 apply to institutions of higher education only.

II. Award Information

Type of Award: Discretionary grants.

Estimated Available Funds: $12 million.

Estimated Range of Awards: $250,000-$750,000.

Estimated Average Size of Awards: $500,000.

Estimated Number of Awards: 24.

Note: The Department is not bound by any estimates in this notice.

Project Period: Up to 36 months.

III. Eligibility Information

1. Eligible Applicants: High-need LEAs, consortia of high-need LEAs, or partnerships that consist of at least one high-need LEA and at least one nonprofit organization (which may be a community- or faith-based organization) or institution of higher education. Applicants are expected to identify and confirm in their applications that the participating LEA(s) meet the definition of “high-need” in section 2102(3) of the ESEA, as reauthorized by the No Child Left Behind Act 0f 2001. (See section III. Eligibility Information, 3. Other: Definition of “High-Need LEA” and other Eligibility Information of this notice for the definition of high-need LEA.)

2. Cost Sharing or Matching: This program does not involve cost sharing or matching.

3. Other: Definition of “High-Need LEA” and other Eligibility Information. An eligible application must propose a project that benefits one or more “high-need LEAs.” As defined in section 2102(3) of the ESEA, the term “high-need LEA” is an LEA—

(a)(1) That serves not fewer than 10,000 children from families with incomes below the poverty line, or (2) for which not less than 20 percent of the children served by the LEA are from families with incomes below the poverty line; and

(b) For which there is (1) a high percentage of teachers not teaching in the academic subjects or grade levels the teachers were trained to teach, or (2) a high percentage of teachers with emergency, provisional, or temporary certification or licensing.

So that the Department may be able to confirm the eligibility of the LEAs that projects propose to serve, applicants are expected to include information in their applications that demonstrates that each participating LEA in the project is a high-need LEA, as defined in section 2102(3) of the ESEA. Generally, this information should be based on the most recent available data on the number of children from families with incomes below the poverty line that the LEA serves. In addition, when presenting evidence to support that each participating LEA meets the definition of a high-need LEA, an application should consider the following.

• The Department is not aware of any consistent available LEA data—other than data periodically gathered by the U.S. Census Bureau—that would show that an LEA serves the required number or percentage of children (individuals ages 5 through 17) from families below the poverty line (as defined in section 9101(33) of the ESEA).

Note: The data that many LEAs collect on the number of children eligible for free- and reduced-priced meal subsidies may not be used to satisfy the requirements under component (a) of the statutory definition of high-need LEA. Those data do not reflect children from families with incomes below the poverty line, as defined in section 9101(33) of the ESEA.

Therefore, absent a showing of alternative LEA data that reliably show the number of children from families with incomes below the poverty line that are served by the LEA, the Department would expect that the eligibility of an LEA as a “high-need LEA” under component (a) Would be determined on the basis of the most recent U.S. Census Bureau data. U.S. Census Bureau data are available for all school districts with geographic boundaries that existed when the U.S. Census Bureau collected its information. The link to the census data is: http://www.census.gov/housing/saipe/sd02/. (Applicants are encouraged to review the README file at the directory level, which provides a description of how the files are organized.) The Department also makes these data available at its Web site at: http://www.ed.gov/programs/lsl/eligibility.html. (Although the Department posted this listing specifically for the Improving Literacy through School Libraries program, these same data apply to the definition of a “high-need LEA” used for purposes of eligibility under the School Leadership program.)

• With regard to component (b)(1) of the definition of “high-need LEA,” the Department interprets the phrase “a high percentage of teachers not teaching in the academic subjects or grade levels that the teachers were trained to teach” as being equivalent to “a high percentage of teachers teaching out of field.” The Department expects that LEAs that rely on component (b)(1) of the definition will demonstrate that they have a high percentage of teachers teaching out of field. The Department is not aware of any specific data that would demonstrate a “high percentage” of teachers teaching out of field. Accordingly, the Department will review this aspect of an LEA's proposed eligibility on a case-by-case basis. To decrease the level of uncertainty, an applicant might choose instead to demonstrate that each participating LEA meets the eligibility test for a high-need LEA under component (b)(2) of the definition.

• For component (b)(2) of the definition of “high-need LEA,” the data that LEAs likely will find most readily available on the percentage of teachers with emergency, provisional, or temporary certification or licensing are the data they provide to their States for inclusion in the reports on the quality of teacher preparation that the States provide to the Department in October of each year as required by section 207 of the Higher Education Act of 1965 (HEA). In these reports, States provide the percentage of teachers in their LEAs teaching on waivers of State certification, both on a statewide basis and in high-poverty LEAs. As reflected in the State reports the Department most recently received in October 2004, the national average percentage of teachers on waivers in high-poverty LEAs is 3.5 percent. Consistent with the methodology the Department used in the FY 2004 competition under the Transition to Teaching program, in which participating LEAs were required to be “high-need LEAs” (as defined in section 2102(3) of the ESEA), the Department would expect that an LEA with over 3.5 percent of its teachers having emergency, provisional, or temporary certification or licensing (i.e., teachers on waivers) has a “high percentage” of its teachers in this category. We expect that an LEA that is not relying on the data it provides to the State for purposes of reporting required by section 207 of the HEA will provide other evidence that demonstrates that it meets the eligibility requirement under component (b)(2) of the statutory definition of “high-need LEA.” Moreover, should an LEA with a percentage of teachers on waivers of less than 3.5 percent believe it too has a “high percentage” of its teachers with emergency, provisional, or temporary certification or licensing, the Department will determine whether that LEA meets element (b)(2) of the definition of high-need LEA on a case-by-case basis.

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.363A.

You may also obtain the application package for the program via the Internet at the following address: http://www.ed.gov/programs/leadership/applicant.html.

Individuals with disabilities may obtain a copy of the application package in an alternative format (e.g., Braille, large print, audiotape, or computer diskette) by contacting the program contact person listed in this notice under FOR FURTHER INFORMATION CONTACT (See section VII. Agency Contact).

2. Content and Form of Application Submission: Requirements concerning the content of an application, together with the forms you must submit, are in the application package for this program.

Notice of Intent to Apply: The Department will be able to develop a more efficient process for reviewing grant applications if it has a better understanding of the number of entities that intend to apply for funding under this competition. Therefore, the Secretary strongly encourages each potential applicant to notify the Department by sending a short e-mail message indicating the applicant's intent to submit an application for funding. The e-mail need not include information regarding the content of the proposed application, only the applicant's intent to submit it. This e-mail notification should be sent to Peggi Zelinko at: SLP@ed.gov.

Applicants that fail to provide this e-mail notification may still apply for funding.

Page Limit for Program Narrative: The program narrative (Part III of the application) is where you, the applicant, address the selection criteria that reviewers use to evaluate your application. Applicants are strongly encouraged to limit Part III to the equivalent of no more than 50 single-sided, double-spaced pages printed in 12-font type or larger.

The page limit does not apply to Part I, the cover sheet; Part II, the budget section, including the narrative budget justification; Part IV, the assurances and certifications; or the one-page abstract, curriculum vitae, or bibliography of literature cited. However, you must include all of the program narrative in Part III.

3. Submission Dates and Times:

Applications Available: February 22, 2005.

Deadline for Notice of Intent to Apply: March 24, 2005.

Deadline for Transmittal of Applications: April 15, 2005.

Applications for grants under this program must be submitted electronically using the Electronic Grant Application System (e-Application) available through the Department's e-Grants system. For information (including dates and times) about how to submit your application electronically or by mail or hand delivery if you qualify for an exception to the electronic submission requirement, please refer to section IV. 6. Other Submission Requirements in this notice.

We do not consider an application that does not comply with the deadline requirements.

Deadline for Intergovernmental Review: June 14, 2005.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this program must be submitted electronically, unless you qualify for an exception to this requirement in accordance with the instructions in this section.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

a. Electronic Submission of Applications. Applications for grants under the School Leadership Program-CFDA Number 84.363A must be submitted electronically using e-Application available through the Department's e-Grants system, accessible through the e-Grants portal page at: http://e-grants.ed.gov.

While completing your electronic application, you will be entering data online that will be saved into a database. You may not e-mail an electronic copy of a grant application to us.

Please note the following:

• You must complete the electronic submission of your grant application by 4:30 p.m., Washington, DC time, on the application deadline date. The e-Application system will not accept an application for this program after 4:30 p.m., Washington, DC time, on the application deadline date. Therefore, we strongly recommend that you do not wait until the application deadline date to begin the application process.

• The regular hours of operation of the e-Grants Web site are 6 a.m. Monday until 7 p.m. Wednesday; and 6 a.m. Thursday until midnight Saturday, Washington, DC time. Please note that the system is unavailable on Sundays, and between 7 p.m. on Wednesdays and 6 a.m. on Thursdays, Washington, DC time, for maintenance. Any modifications to these hours are posted on the e-Grants Web site.

• You will not receive additional point value because you submit your application in electronic format, nor will we penalize you if you qualify for an exception to the electronic submission requirement, as described elsewhere in this section, and submit your application in paper format.

• You must submit all documents electronically, including the Application for Federal Education Assistance (ED 424), Budget Information—Non-Construction Programs (ED 524), and all necessary assurances and certifications.

• Any narrative sections of your application should be attached as files in a .DOC (document), .RTF (rich text), or .PDF (Portable Document) format.

• Your electronic application must comply with any page limit requirements described in this notice.

• Prior to submitting your electronic application, you may wish to print a copy of it for your records.

• After you electronically submit your application, you will receive an automatic acknowledgement that will include a PR/Award number (an identifying number unique to your application).

• Within three working days after submitting your electronic application, fax a signed copy of the ED 424 to the Application Control Center after following these steps:

(1) Print ED 424 from e-Application.

(2) The applicant's Authorizing Representative must sign this form.

(3) Place the PR/Award number in the upper right hand corner of the hard-copy signature page of the ED 424.

(4) Fax the signed ED 424 to the Application Control Center at (202) 245-6272.

• We may request that you provide us original signatures on other forms at a later date.

Application Deadline Date Extension in Case of e-Application System Unavailability: If you are prevented from electronically submitting your application on the application deadline date because the e-Application system is unavailable, we will grant you an extension of one business day in order to transmit your application electronically, by mail, or by hand delivery. We will grant this extension if:

(1) You are a registered user of e-Application and you have initiated an electronic application for this competition; and

(2)(a) The e-Application system is unavailable for 60 minutes or more between the hours of 8:30 a.m. and 3:30 p.m., Washington, DC time, on the application deadline date; or

(b) The e-Application system is unavailable for any period of time between 3:30 p.m. and 4:30 p.m., Washington, DC time, on the application deadline date.

We must acknowledge and confirm these periods of unavailability before granting you an extension. To request this extension or to confirm our acknowledgement of any system unavailability, you may contact either (1) the person listed elsewhere in this notice under FOR FURTHER INFORMATION CONTACT (see section VII. Agency Contact) or (2) the e-Grants help desk at 1-888-336-8930. If the system is down and therefore the application deadline is extended, an e-mail will be sent to all registered users who have initiated an e-Application. Extensions referred to in this section apply only to the unavailability of the Department's e-Application system.

Exception to Electronic Submission Requirement: You qualify for an exception to the electronic submission requirement, and may submit your application in paper format, if you are unable to submit an application through the e-Application system because—

• You do not have access to the Internet; or

• You do not have the capacity to upload large documents to the Department's e-Application system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Peggi Zelinko, U.S. Department of Education, 400 Maryland Avenue, SW., room 4W226, Washington, DC 20202-4260. FAX: (202) 401-8466.

Your paper application must be submitted in accordance with the mail or hand delivery instructions described in this notice.

b. Submission of Paper Applications by Mail. If you qualify for an exception to the electronic submission requirement, you may mail (through the U.S. Postal Service or a commercial carrier) your application to the Department. You must mail the original and two copies of your application, on or before the application deadline date, to the Department at the applicable following address:

By mail through the U.S. Postal Service: U.S. Department of Education, Application Control Center, Attention: (CFDA Number 84.363A), 400 Maryland Avenue, SW., Washington, DC 20202-4260.

or

By mail through a commercial carrier: U.S. Department of Education, Application Control Center—Stop 4260, Attention: (CFDA Number 84.363A), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery. If you qualify for an exception to the electronic submission requirement, you (or a courier service) may deliver your paper application to the Department by hand. You must deliver the original and two copies of your application, by hand, on or before the application deadline date, to the Department at the following address: U.S. Department of Education, Application Control Center, Attention: (CFDA Number 84.363A), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The following selection criteria for this competition are from § 75.210 of EDGAR. The maximum score for all the selection criteria is 100 points. The maximum score for each criterion is indicated in parentheses. Each criterion also includes the factors that the reviewers will consider in determining how well an application meets the criterion. The notes following each of the selection criteria are guidance to help applicants in preparing their applications and are not required by statute or regulations. The criteria are as follows:

A. Need for project (20 points). The Secretary considers the need for the project. In determining the need for the project the Secretary considers the following factors:

1. The magnitude or severity of the problem to be addressed by the proposed project.

2. The extent to which specific gaps or weaknesses in services, infrastructure, or opportunities have been identified and will be addressed by the proposed project, including the nature and magnitude of those gaps or weaknesses.

Note: The Secretary encourages applicants to address this criterion by discussing—

• The reasons the participating LEAs have need of the services proposed and why those needs are not met by current efforts, and

• Specific studies, surveys, or other sources that have yielded objective data to confirm the participating LEAs' needs.

B. Quality of the project design (25 points). The Secretary considers the quality of the design for the proposed project. In determining the quality of the design of the project, the Secretary considers the following factors:

1. The extent to which the goals, objectives, and outcomes to be achieved by the proposed project are clearly specified and measurable.

2. The extent to which the design of the proposed project reflects up-to-date knowledge from research and effective practice.

3. The extent to which the design of the proposed project is appropriate to, and will successfully address, the needs of the target population or other identified needs.

4. The extent to which the proposed project is part of a comprehensive effort to improve teaching and learning and support rigorous academic standards for students. Note: The Secretary encourages applicants to address this criterion by discussing the overall project model, including such key elements as the project's—

• Research base;

• Proposed applicants;

• Recruitment and selection strategies;

• Plans for using incentives for teachers or individuals from other fields who want to become principals and assistant principals;

• Activities to prepare principals and assistant principals;

• Program delivery strategy(ies);

• Plans for implementing on-site or school-based work experiences;

• Activities for participant placement and follow-up support; and

• Retention strategies.

C. Significance of the Project (20 points). The Secretary considers the significance of the proposed project. In determining the significance of the proposed project, the Secretary considers the following factors:

1. The extent to which the proposed project involves the development or demonstration of promising new strategies that build on, or are alternatives to, existing strategies.

2. The extent to which the proposed project is likely to build local capacity to provide, improve, or expand services that address the needs of the target population.

3. The importance or magnitude of the results or outcomes likely to be attained by the proposed project.

Note: The Secretary encourages applicants to address this criterion by describing such key factors as how the project—

• Will help the participating LEAs to achieve important results during the project period that the LEAs could not otherwise achieve;

• Is part of a long-term response to the participating LEA's (or LEAs') school leadership needs, and one that will be part of the LEA's (or LEAs') overall school improvement plan; and

• How this project will build or stimulate the capacity of the participating LEAs to continue this project after the grant period ends, including how and when the LEAs will identify resources to support this endeavor.

Moreover, in addressing “[t]he extent to which the proposed project is likely to build local capacity to provide, improve, or expand services that address the needs of the target population,” applicants also might consider including a letter of support or other information from each participating LEA that confirms both the LEA's interest in participating in this project and the results the LEA expects from it.

D. Quality of the management plan (15 points). The Secretary considers the quality of the management plan for the proposed project. In determining the quality of the management plan for the proposed project, the Secretary considers the following factors:

1. The adequacy of the management plan to achieve the objectives of the proposed project on time and within budget, including clearly defined responsibilities, timelines, and milestones for accomplishing project tasks.

2. The extent to which the time commitments of the project director and principal investigator and other key project personnel are appropriate and adequate to meet the objectives of the proposed project.

3. The adequacy of procedures for ensuring feedback and continuous improvement in the operation of the proposed project.

Note: The Secretary encourages applicants to address this criterion by providing specific information such as—

• The name, title, and time commitment of each key person, and the responsibilities of each individual working to help implement the project's goals and objectives;

• A year-to-year timeline for undertaking important project activities, with benchmarks for determining whether the project is achieving its stated goals and objectives; and

• The strategies for monitoring whether or not the project is meeting its goals and objectives, and for making mid-course corrections, as appropriate.

E. Quality of the project evaluation (20 points). The Secretary considers the quality of the evaluation to be conducted of the proposed project. In determining the quality of the evaluation, the Secretary considers the following factors:

1. The extent to which the methods of evaluation include the use of objective performance measures that are clearly related to the intended outcomes of the project and will produce quantitative and qualitative data to the extent possible.

2. The extent to which the methods of evaluation will provide performance feedback and permit periodic assessment of progress toward achieving intended outcomes.

Note: The Secretary encourages applicants to consider how this criterion may affect both their annual performance reports and the final evaluation submitted under 34 CFR 75.590. In addition, the Secretary encourages applicants to address this criterion by including proposed benchmarks for assessing both short- and long-term progress toward the specific project objectives and outcome measures they would use to assess the project's impact on teaching and learning or other important outcomes for project participants. (Specific performance measures established for the overall School Leadership program are discussed in the Award Administration Information section of this notice (section VI, item 4, Performance Measures.)

The Secretary also encourages applicants to identify the individual and/or organization that has agreed to serve as evaluator for the project and describe the qualifications of that evaluator as well as—

• The types of data that will be collected;

• When these various types of data will be collected;

• What methods of data collections will be used;

• What evaluation instruments will be developed and when;

• How the data will be analyzed;

• When reports of evaluation results and outcomes will be available; and

• How the applicant will use the information collected through the evaluation to monitor progress of the funded project and to provide accountability information both about the success at the initial site or sites and about effective strategies for replication in other settings.

Applicants are encouraged to devote an appropriate level of resources to project evaluation.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: In response to the Government Performance and Results Act (GPRA), the Department has established two overall performance indicators for assessing the effectiveness of the School Leadership program. We will collect the data for these indicators from the grantees using the measures indicated.

Performance Indicator 1: To recruit, prepare, and support teachers and individuals from other fields to become principals and assistant principals in high-need schools in high-need LEAs. We will track this indicator through the use of the following two performance measures:

Measure One: The percentage of those enrolled in the training program who become certified as principals and assistant principals.

Measure Two: The percentage of program completers earning certification as a principal or assistant principal and who are employed in those positions in high-need schools in high-need LEAs.

Performance Indicator 2: To provide professional development, coaching, mentoring, and other support activities to current, practicing principals and assistant principals in high-need schools in high-need LEAs. We will track this indicator through the use of the following performance measure:

Measure: The percentage of current, practicing principals and assistant principals serving in high-need schools in high-need LEAs and who participate in a structured, job-embedded program of professional development that includes mentoring, coaching, and other support activities.

VII. Agency Contact

FOR FURTHER INFORMATION CONTACT: Peggi Zelinko, U.S. Department of Education, 400 Maryland Avenue, SW., room 5E114, Washington, DC 20202-4260. Telephone: (202) 260-2614 or by e-mail: SLP@ed.gov.

If you use a telecommunications device for the deaf (TDD), you may call the Federal Relay Service (FRS) at 1-800-877-8339.

Individuals with disabilities may obtain this document in an alternative format (e.g., Braille, large print, audiotape, or computer diskette) on request to the program contact person listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: February 16, 2005.
Michael J. Petrilli,
Acting Assistant Deputy Secretary for Innovation and Improvement.

[FR Doc. E5-694 Filed 2-18-05; 8:45 am]

BILLING CODE 4000-01-P